ENVIRONMENTAL PROTECTION AGENCY

40 CFR Part 180

[EPA-HQ-OPP-2008-0888; FRL-8436-3]

Polyglyceryl Phthalate Ester of Coconut Oil Fatty Acids; Exemption from the Requirement of a Tolerance; Technical Correction

AGENCY: Environmental Protection Agency (EPA).

ACTION: Final rule; technical correction.

SUMMARY: EPA issued a final rule in the Federal Register of July 8, 2009, concerning polyglyceryl phthalate ester of coconut oil fatty acids; exemption from the requirement of a tolerance. This document is being issued to correct the inert ingredient name and CAS numbers.

DATES: This final rule is effective April 21, 2010.

ADDRESSES: EPA has established a docket for this action under docket identification (ID) number EPA-HQ-OPP-2008-0888. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Kerry Leifer , Registration Division (7205P), Office of Pesticide Programs, Environmental Protection Agency, 1200 Pennsylvania Ave., NW., Washington DC 20460-0001; telephone number: (703) 308-8811; e-mail address: leifer,kerry@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to accessing electronically available documents at http://www.regulations.gov, you may access this Federal Register document electronically through the EPA Internet under the “Federal Register” listings at http://www.epa.gov/fedrgstr.

II. What Does this Correction Do?

In the Federal Register of July 8, 2009, (74 FR 32456), EPA’s Office of Pesticide Programs issued an exemption from the requirement of a tolerance for “polyglyceryl phthalate ester of coconut oil fatty acids” pursuant to a petition by the Joint Inserts Task Force, Cluster Support Team 23. The petition requested that an exemption from the requirement of a tolerance for residues of polyglyceryl phthalate ester of coconut oil fatty acids, including fatty acid coco polymers with glyceryl and phthalic anhydride (CAS No. 67746-02-5) and coconut oil polymer with glyceryl and phthalic anhydride (CAS No. 66070-87-9). This technical correction corrects the name of the inert ingredient and the CAS numbers.

III. Why is this Correction Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making today's technical correction final without prior proposal and opportunity for comment, because EPA is merely correcting language that was inadvertently mistyped in the previously published final rule. The correct inert ingredient names and CAS Numbers were present in the Supplementary Information Section of the July 8, 2009 final rule but were mistyped in the tolerance exemption table. EPA finds that this constitutes good cause under 5 U.S.C. 553(b)(B).

IV. Do Any of the Statutory and Executive Order Reviews Apply to this Action?

The statutory and Executive order reviews were included in the July 8, 2009 final rule.

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: April 9, 2010.
Lois Rossi,
Director, Registration Division, Office of Pesticide Programs.

Therefore, 40 CFR part 180 corrected as follows:

PART 180—[AMENDED]

1. The authority citation for part 180 continues to read as follows:

Authority: 21 U.S.C. 321(q), 346a, and 371.

2. In the table to § 180.910, the entry for “Polyglyceryl phthalate ester of coconut oil fatty acids (CAS Reg. Nos. 67746-6070-9)” is revised to read as follows:

§ 180.910 Inert ingredients used pre- and post-harvest; exemptions from the requirement of a tolerance.

Inert Ingredients | Limits | Uses
* * * * * * *
Polyglyceryl phthalate ester of coconut oil fatty acids, including fatty acid coco polymers with glyceryl and phthalic anhydride (CAS No. 67746-02-5) and coconut oil polymer with glyceryl and phthalic anhydride (CAS No. 66070-87-9) | None | Surfactants, related adjuvants of surfactants
* * * * * * *

[FR Doc. 2010-9194 Filed 4-20-10; 8:45 am]

BILLING CODE 6560-50-S